DEPARTMENT OF HOMELAND SECURITY

Citizenship and Immigration Services

[CIS No. 2512-11; DHS Docket No. USCIS-2011-0013]

RIN 1615-ZB07

Extension of the Designation of Sudan for Temporary Protected Status and Automatic Extension of Employment Authorization Documentation for Sudanese TPS Beneficiaries

AGENCY: U.S. Citizenship and Immigration Services, Department of Homeland Security.

ACTION: Notice.

SUMMARY: This Notice announces that the Secretary of Homeland Security (Secretary) has extended the designation of Sudan for temporary protected status (TPS) for 18 months from its current expiration date of November 2, 2011 through May 2, 2013. The Secretary has determined that an extension is warranted because the conditions in Sudan that prompted the TPS designation continue to be met. There continues to be a substantial, but temporary, disruption of living conditions in Sudan based upon ongoing armed conflict and extraordinary and temporary conditions in that country that prevent Sudanese who now have TPS from returning in safety.

This Notice also sets forth procedures necessary for nationals of Sudan (or aliens having no nationality who last habitually resided in Sudan) with TPS to re-register and to apply for an extension of their Employment Authorization Documents (EADs) with U.S. Citizenship and Immigration Services (USCIS). Re-registration is limited to persons who previously registered for TPS under the designation of Sudan and whose applications have been granted or remain pending. Certain nationals of Sudan (or aliens having no nationality who last habitually resided in Sudan) who have not previously applied for TPS may be eligible to apply under the late initial registration provisions.

USCIS will issue new EADs with a May 2, 2013 expiration date to eligible Sudanese TPS beneficiaries who timely re-register and apply for EADs under this extension. Given the timeframes involved with processing TPS re-registration applications, DHS recognizes that all re-registrants may not receive new EADs until after their current EADs expire on November 2, 2011. Accordingly, this Notice automatically extends the validity of EADs issued under the TPS designation of Sudan for 6 months, through May 2, 2012, and explains how TPS beneficiaries and their employers may determine which EADs are automatically extended and how the extension affects employment eligibility verification (Form I-9 and E-Verify) processes.

In a separate Federal Register Notice issued on October 13, 2011, the Secretary designated the newly formed Republic of South Sudan for TPS. Some individuals who are TPS beneficiaries under the current designation of Sudan may now be nationals of South Sudan, calling into question their continued eligibility for TPS under the Sudan designation. These individuals may, however, now qualify for TPS under South Sudan. The South Sudan Notice sets forth regular procedures and special procedures necessary for nationals of South Sudan (or aliens having no nationality who last habitually resided in the region that is now South Sudan) to register and to apply for TPS and EADs with USCIS.

DATES: The 18-month extension of the TPS designation of Sudan is effective November 3, 2011, and will remain in effect through May 2, 2013. The 180-day re-registration period begins October 13, 2011, and will remain in effect until April 10, 2012.

FOR FURTHER INFORMATION: • For further information on TPS, including guidance on the application process and additional information on eligibility, please visit the TPS Web page at http://www.uscis.gov/tps. You can find specific information about this extension and about TPS for Sudan by selecting “TPS Designated Country—Sudan” from the menu on the left of the TPS Web page. From the Sudan page, you can select the Sudan TPS Questions & Answers Section from the menu on the right for further information. Additionally, information about TPS for South Sudan can be found at the USCIS TPS Web page under the subheading “South Sudan.”

• You can also contact the TPS Operations Program Manager at Status and Family Branch, Service Center Operations Directorate, U.S. Citizenship and Immigration Services, Department of Homeland Security, 20 Massachusetts Avenue, NW., Washington, DC 20529-2060; or by phone at (202) 272-1533 (this is not a toll-free number).

Note: The phone number provided here is solely for questions regarding this TPS notice. It is not for individual case status inquiries.

• Applicants seeking information about the status of their individual cases can check Case Status Online available at the USCIS Web site at http://www.uscis.gov, or call the USCIS National Customer Service Center at 1-800-375-5283 (TTY 1-800-767-1833).

• Further information will also be available at local USCIS offices upon publication of this Notice.

SUPPLEMENTARY INFORMATION:

Abbreviations and Terms Used in This Document

CPA—Comprehensive Peace Agreement.

DHS—Department of Homeland Security.

DOS—Department of State.

EAD—Employment Authorization Document.

Government—U.S. Government.

GOS—Government of Sudan.

INA—Immigration and Nationality Act.

JEM—Justice & Equality Movement.

NCP—National Congress Party.

OSC—U.S. Department of Justice, Office of Special Counsel for Immigration-Related Unfair Employment Practices.

Secretary—Secretary of Homeland Security.

South Sudan—Republic of South Sudan.

SPLM—Sudan People's Liberation Movement.

SPLM/A—Sudan People's Liberation Movement/Army.

TPS—Temporary Protected Status.

USAID—U.S. Agency for International Development.

USCIS—U.S. Citizenship and Immigration Services.

What is temporary protected status (TPS)?

• TPS is an immigration status granted to eligible nationals of a country designated for TPS under the Act (or to persons without nationality who last habitually resided in the designated country).

• During the TPS designation period, TPS beneficiaries are eligible to remain in the United States and may obtain work authorization, so long as they continue to meet the requirements of TPS.

• The granting of TPS does not lead to permanent resident status.

• When the Secretary of Homeland Security (Secretary) terminates a country's TPS designation, beneficiaries return to the same immigration status they maintained before TPS (unless that status has since expired or been terminated) or to any other lawfully obtained immigration status they received while registered for TPS.

When was Sudan designated for TPS?

On November 4, 1997, the Attorney General designated Sudan for TPS based on an ongoing armed conflict and extraordinary and temporary conditions within that country. See 62 FR 59737; section 244(a)(b)(1)(A), (C) of the Immigration and Nationality Act (INA), 8 U.S.C. 1254a(b)(1)(A), (C). Following the initial designation of Sudan for TPS in 1997, the Attorney General and, later, the Secretary have extended TPS and/or redesignated Sudan for TPS a total of 12 times, including this extension. See 74 FR 69355 (Dec. 31, 2009) (describing the complete history of Sudan TPS extensions and redesignations). In the 2004 redesignation of Sudan, the Secretary established October 7, 2004, as the date by which TPS Sudan applicants must demonstrate that they have been continuously residing and continuously physically present in the United States. 69 FR 60168 (Oct. 7, 2004). The last extension of TPS for Sudan was announced on December 31, 2009, based on the Secretary's determination that the conditions warranting the designation continued to be met. There has been no change to the October 7, 2004 “continuous residence” and “continuous physical presence” date requirements since 2004.

What authority does the Secretary of Homeland Security have to extend the designation of Sudan for TPS?

Section 244(b)(1) of the INA, 8 U.S.C. 1254a(b)(1), authorizes the Secretary, after consultation with appropriate Government agencies, to designate a foreign state (or part thereof) for TPS.¹ The Secretary may then grant TPS to eligible nationals of that foreign state (or aliens having no nationality who last habitually resided in that state). See INA sec. 244(a)(1)(A), 8 U.S.C. 1254a(a)(1)(A).

¹ As of March 1, 2003, in accordance with section 1517 of title XV of the Homeland Security Act of 2002 (HSA), Public Law 107-296, 116 Stat. 2135, any reference to the Attorney General in a provision of the INA describing functions transferred from the Department of Justice to the Department of Homeland Security “shall be deemed to refer to the Secretary” of Homeland Security. See 6 U.S.C. 557 (codifying HSA, tit. XV, sec. 1517).

At least 60 days before the expiration of a country's TPS designation or extension, the Secretary, after consultation with appropriate Government agencies, must review the conditions in a foreign state designated for TPS to determine whether the conditions for the TPS designation continue to be met. See INA sec. 244(b)(3)(A), 8 U.S.C. 1254a(b)(3)(A). If the Secretary determines that a foreign state continues to meet the conditions for TPS designation, the designation is extended for an additional 6 months (or in the Secretary's discretion for 12 or 18 months). See INA sec. 244(b)(3)(C), 8 U.S.C. 1254a(b)(3)(C). If the Secretary determines that the foreign state no longer meets the conditions for TPS designation, the Secretary must terminate the designation. See INA sec. 244(b)(3)(B) of the Act, 8 U.S.C. 1254a(b)(3)(B).

Why is the Secretary extending the TPS designation for Sudan through May 2, 2013?

Over the past year, the Department of Homeland Security (DHS) and the Department of State (DOS) have continued to review conditions in Sudan. Based on this review and after consulting with DOS, the Secretary has determined that an 18-month extension is warranted because the armed conflict is ongoing, although there have been a few improvements, and the extraordinary and temporary conditions that prompted the October 7, 2004 redesignation persist.

Sudan's 22-year civil war formally ended in 2005 with the signing of the Comprehensive Peace Agreement (CPA) between the north's Government of Sudan in Khartoum and its ruling National Congress Party (NCP) and the south's Sudan People's Liberation Movement/Army (SPLM/A). Sudan accomplished two key requirements of the CPA by holding national and local elections in April 2010 and holding the referendum on independence for South Sudan in January 2011. Following referendum results indicating approximately 98 percent of registered South Sudanese voted for secession, the new nation of South Sudan was officially created on July 9, 2011.

While the formal armed conflict between the north and south has ended, the violence in Sudan and South Sudan continues. The challenges of partitioning the country have created new conflicts and complicated existing disputes between the north and south. Additionally, several groups, including numerous nonaligned Sudanese militias, threaten the long-term security of the region.

In spite of milestone accomplishments under the CPA, serious impediments to the peace process remain and the civilian population continues to suffer harm related to ongoing conflict in various parts of Sudan. Contentious issues between Sudan and South Sudan remain to be negotiated, including demarcation of the border, the citizenship status of displaced persons, and the sharing of vital natural resources, such as Nile River water and oil reserves in South Sudan. The failure to formally demobilize the 180,000 soldiers from both Sudan and South Sudan as required by the CPA is of further concern. As of early 2011, only about 400 soldiers across the entire country have completed the demobilization process.

In Darfur, fighting between government and rebel forces continues and has caused the widespread displacement of civilians. The CPA does not cover the Darfur region of western Sudan. Despite numerous attempts to negotiate peace between government forces and the various amalgamations of militia groups, conflict in Darfur is ongoing. In 2003, two rebel groups, the SPLM and the Justice and Equality Movement (JEM), led an insurrection against the Government of Sudan (GOS). In response, the GOS reportedly armed local rival tribes and militia known collectively as the “Janjaweed.” According to U.S. Government reports, attacks on the civilian population by the Janjaweed, often with the direct support of the GOS, have led to the deaths of hundreds of thousands of people in Darfur. The UN estimated in 2006 that 200,000 persons had died as a result of the conflict and that by 2008 an additional 100,000 may have died. An estimated 1.9 million civilians have been internally displaced, and approximately 280,000 refugees have fled to neighboring Chad. Fighting in Darfur includes armed clashes between government and rebel forces, among rebel factions, and between armed ethnic Arab groups. In the first half of 2010, armed clashes resulted in the highest number of deaths in the Darfur conflict since 2008, with armed clashes occurring in all three Darfur states. In more than seven years of the Darfur conflict, a series of periodic ceasefires between the GOS and various rebel groups have all subsequently quickly fallen apart. Despite formal international efforts to negotiate peace within the region, the peace process has floundered. In 2009 through early 2011, fighting between the GOS and various rebel groups escalated.

The transitional areas of Abyei, Blue Nile and Southern Kordorfan, located along the contentious north-south border, continue to be flashpoints for positional violence. Clashes that began on June 6 in Southern Kordofan State between the Sudanese Armed Forces (SAF) and forces loyal to the Sudan People's Liberation Army (SPLA) displaced up to 73,000 people, according to unconfirmed estimates. Violations of human rights and international humanitarian law have been reported in the state, and humanitarian access is limited. There is potential for violence also to flare in Blue Nile. On May 21, the Sudan Armed Forces took over the Abyei Area, a disputed territory in the middle of what was then Sudan, displacing an estimated 100,000 people.

While the northern and eastern parts of Sudan have not recently experienced the same level of violence that has plagued Darfur, the disputed Abyei region, South Kordofan, and Southern Sudan, human rights abuses continue throughout the country. For example, numerous persons were detained following demonstrations in January 2011.

In eastern Sudan, the political and security situation remained relatively calm, due, in part, to the Eastern Sudan Peace Agreement between GOS and rebels from the Eastern Front. A number of issues have not been fully addressed, however, including growing poverty, economic marginalization, security vulnerabilities, as well as the Eastern Front splitting into three groups.

A myriad of factors contribute to the ongoing humanitarian crisis in Sudan. Sporadic eruptions of political and intercommunal violence caused civilian deaths, continued displacement of the population, and general instability. Natural disasters have compounded the harm suffered by the population in some regions. Drought and flooding continue to increase food insecurity and concerns of malnutrition. Delivery of humanitarian aid continues to be threatened by attacks against aid workers and GOS restrictions on the operations of humanitarian organizations.

Sudan is the largest humanitarian aid recipient in the world, with the international community providing approximately $1.3 billion in humanitarian assistance in 2009. Reports from the U.S. Agency for International Development (USAID) and the World Food Programme indicate that in addition to coping with the effects of conflict and displacement, the country continues to struggle with perennial environmental shocks, such as flooding and droughts, which further compound the country's vulnerabilities and have led to food shortages and budget constraints. U.S. Government reports indicate that food insecurity in Darfur is considered an emergency concern. In eastern Sudan, chronic poverty and development needs persist throughout the region, which has experienced slow recovery following decades of conflict.

While certain provisions of the 2005 CPA have generally been upheld, many contentious issues remain unresolved and present potential for conflict. The transitional areas along the Sudan-South Sudan border remain flashpoints for potential violence. Violence and ensuing population displacement, compounded by environmental and economic factors, have created one of the worst humanitarian crises in the world. Despite encouraging incidents of progress toward peace, Sudan's overall internal security and political stability remain fragile and unpredictable.

Based upon this review and after consultation with appropriate Government agencies, the Secretary finds that:

• The conditions that prompted the October 7, 2004 redesignation of Sudan for TPS continue to be met. See INA sec. 244(b)(3)(A), 8 U.S.C. 1254a(b)(3)(A).

• There continues to be an ongoing armed conflict and extraordinary and temporary conditions in Sudan that prevent Sudanese nationals from returning to Sudan in safety. See INA sec. 244(b)(1)(A), (C), 8 U.S.C. 1254a(b)(1)(A), (C).

• It is not contrary to the national interest of the United States to permit Sudanese (and persons who have no nationality who last habitually resided in Sudan) who meet the eligibility requirements of TPS to remain in the United States temporarily. See INA sec. 244(b)(1)(C), 8 U.S.C. 1254a(b)(1)(C).

• The designation of Sudan for TPS should be extended for an additional 18-month period. See INA sec. 244(b)(3)(C), 8 U.S.C. 1254a(b)(3)(C).

• There are approximately 340 individuals who currently have TPS under the designation of Sudan. DHS estimates that the combined total of Sudanese and South Sudanese who will be eligible for TPS under the South Sudan designation and the extension of TPS for Sudan is approximately 340. DHS recognizes that the actual number of re-registering Sudan TPS applicants may be lower than 340, because some of those 340 individuals may apply and qualify for registration under the new South Sudan TPS designation.

Notice of Extension of the TPS Designation of Sudan

By the authority vested in me as Secretary of Homeland Security under section 244 of the INA, 8 U.S.C. 1254a, I have determined, after consultation with the appropriate Government agencies, that the conditions that prompted the redesignation of Sudan for temporary protected status (TPS) on October 7, 2004 continue to be met. See INA sec. 244(b)(3)(A) of the Act, 8 U.S.C. 1254a(b)(3)(A). On the basis of this determination, I am extending the TPS designation of Sudan for 18 months from its current expiration on November 2, 2011 through May 2, 2013.

Janet Napolitano,
Secretary.

Required Application Forms and Application Fees To Register or Re-Register for TPS

To Register or Re-Register for TPS for Sudan, an Applicant Must Submit

1. Application for Temporary Protected Status, Form I-821,

• You only need to pay the Form I-821 application fee if you are filing an application for late initial registration. See 8 CFR 244.2(f)(2) and information on late initial filing on the USCIS Web site at http://www.uscis.gov under “Temporary Protected Status for Sudan.”

• You do not need to pay the Form I-821 fee for a re-registration;

and

2. Application for Employment Authorization, Form I-765.

• If you are applying for re-registration, you must pay the Form I-765 application fee only if you want an Employment Authorization Document (EAD).

• If you are applying for late initial registration and want an EAD, you must pay the Form I-765 fee only if you are age 14 through 65. No EAD fee is required if you are under the age of 14 or over the age of 65 and applying for late initial registration.

• You do not pay the Form I-765 fee if you are not requesting an EAD.

You must submit both completed application forms together. If you are unable to pay, you may apply for application and/or biometrics fee waivers by completing a Request for Fee Waiver (Form I-912) or submitting a personal letter requesting a fee waiver, and providing satisfactory supporting documentation. For more information on the application forms and fees for TPS, please visit the USCIS TPS Web page at http://www.uscis.gov/tps and click on “Temporary Protected Status for Sudan.” Fees for Form I-821, Form I-765, and biometric services are also described in 8 CFR 103.7(b).

Biometric Services Fee

Biometrics (such as fingerprints) are required for all applicants 14 years of age or older. Those applicants must submit a biometric services fee. As previously stated, if you are unable to pay, you may apply for a biometrics fee waiver by completing a Form I-912, or a personal letter requesting a fee waiver, and providing satisfactory supporting documentation. For more information on the biometric services fee, please visit the USCIS Web site at http://www.uscis.gov. If necessary, you may be required to visit an Application Support Center to have your biometrics captured.

Refiling After Receiving a Denial of a Fee Waiver Request

USCIS urges all re-registering applicants to file as soon as possible within the 180-day re-registration period so that USCIS can promptly process the applications and issue EADs. Filing early will also allow those applicants who may receive denials of their fee waiver requests to have time to pay the appropriate fees and refile their applications before the re-registration deadline. If, however, an applicant receives a denial of his or her fee waiver request and is unable to refile with the appropriate fees by the re-registration deadline, the applicant may still refile his or her applications. This situation will constitute good cause for late re-registration. See 8 CFR 244.17. However, applicants are urged to refile within 45 days of the date on their USCIS fee waiver denial notice if at all possible. For more information on good cause for late re-registration, please look at the Questions & Answers for Sudan TPS found on the USCIS TPS Web page for Sudan.

Mailing Information

Mail your application for TPS to the proper address in Table 1:

Table 1-Mailing Addresses
If | Mail to
You are applying for re-registration through the U.S. Postal Service | USCIS, P.O. Box 8677, Chicago, IL 60680-8677.
You are applying for the first time as a late initial registrant through the U.S. Postal Service | USCIS, P.O. Box 8677, Chicago, IL 60680-8677.
You are using a Non-U.S. Postal Service delivery service for either re-registration or first-time late initial registration | USCIS, Attn: TPS Sudan, 131 S. Dearborn 3rd Floor, Chicago, IL 60603-5517.

E-Filing

You cannot electronically file your application when re-registering or applying for late initial registration for Sudan TPS. Please mail your application to the mailing address listed in Table 1 above.

Employment Authorization Document (EAD)

May I request an interim EAD at my local USCIS office?

No. USCIS will not issue interim EADs to TPS applicants and re-registrants at local offices.

Am I eligible to receive an automatic 6-month extension of my current EAD from November 2, 2011 through May 2, 2012?

You will receive an automatic 6-month extension of your EAD if you:

• Are a national of Sudan, an alien having no nationality who last habitually resided in Sudan, or a new national of South Sudan who received an EAD under the last extension of TPS for Sudan;

• Received an EAD under the last extension of TPS for Sudan; and

• Have not had TPS withdrawn or denied.

This automatic extension is limited to EADs with an expiration date of November 2, 2011. These EADs must also bear the notation “A-12” or “C-19” on the face of the card under “Category.”

When hired, what documentation may I show to my employer as proof of employment authorization and identity when completing Employment Eligibility Verification, Form I-9?

You can find a list of acceptable document choices on page 5 of the Employment Eligibility Verification, Form I-9. Employers are required to verify the identity and employment authorization of all new employees by using Form I-9. Within three days of hire, an employee must present proof of identity and employment authorization to his or her employer.

You may present any document from List A (reflecting both your identity and employment authorization), or one document from List B (reflecting identity) together with one document from List C (reflecting employment authorization). An EAD is an acceptable document under “List A.”

If you received a 6-month automatic extension of your EAD by virtue of this Federal Register notice, you may choose to present your automatically extended EAD, as described above, to your employer as proof of identity and employment authorization for Form I-9 through May 2, 2012 (see the subsection below titled “How do my employer and I complete Form I-9 (i.e., verification) using an automatically extended EAD for a new job?” for further information). To minimize confusion over this extension at the time of hire, you may also show a copy of this Federal Register notice regarding the automatic extension of employment authorization through May 2, 2012 to your employer. As an alternative to presenting your automatically extended EAD, you may choose to present any other acceptable document from List A, or List B plus List C.

What documentation may I show my employer if I am already employed but my current TPS-related EAD is set to expire?

You must present any document from List A or any document from List C on Form I-9 to reverify employment authorization. Employers are required to reverify on Form I-9 the employment authorization of current employees upon the expiration of a TPS-related EAD.

If you received a 6-month automatic extension of your EAD by virtue of this Federal Register notice, your employer does not need to reverify until after May 2, 2012. However, you and your employer do need to make corrections to the employment authorization expiration dates in Section 1 and Section 2 of the Form I-9 (see the subsection below titled “What corrections should my employer at my current job and I make to Form I-9 if my EAD has been automatically extended?” for further information). In addition, you may also show this Federal Register notice to your employer to avoid confusion about whether or not your expired TPS-related document is acceptable. After May 2, 2012, when the automatic extension expires, your employer must reverify your employment authorization. You may show any document from List A or List C on Form I-9 to satisfy this reverification requirement.

What happens after May 2, 2012 for purposes of employment authorization?

After May 2, 2012, employers may not accept the EADs that were automatically extended by this Federal Register notice. However, USCIS will issue new EADs to TPS re-registrants. These EADs will have an expiration date of May 2, 2013 and can be presented to your employer as proof of employment authorization and identity. The EAD will bear the notation “A-12” or “C-19” on the face of the card under “Category.” Alternatively, you may choose to present any other legally acceptable document or combination of documents listed on the Form I-9 to prove identity and employment authorization.

How do my employer and I complete Form I-9 (i.e., Verification) using an automatically extended EAD for a new job?

When using an automatically extended EAD to fill out Form I-9 for a new job prior to May 2, 2012, you and your employer should do the following:

(1) For Section 1, you should:

a. Check “An alien authorized to work;”

b. Write your alien number (A-number) in the first space (your EAD or other document from DHS will have your A-number printed on it); and

c. Write the automatic extension date in the second space.

(2) For Section 2, employers should:

a. Record the document title;

b. Record the document number; and

c. Record the automatically extended EAD expiration date.

After May 2, 2012, employers must reverify the employee's employment authorization in Section 3 of Form I-9.

What corrections should my employer at my current job and I make to Form I-9 if my EAD has been automatically extended?

If you are an existing employee who presented a TPS EAD that was valid when you first started your job, but that EAD has now been automatically extended, you and your employer should correct your previously completed Form I-9 as follows:

(1) For Section 1, you should:

a. Draw a line through the expiration date in the second space;

b. Write “May 2, 2012” above the previous date;

c. Write “TPS Ext.” in the margin of Section 1; and

a. Initial and date the correction in the margin of Section 1.

(2) For Section 2, employers should:

a. Draw a line through the expiration date written in Section 2;

b. Write “May 2, 2012” above the previous date;

c. Write “TPS Ext.” in the margin of Section 2; and

d. Initial and date the correction in the margin of Section 2.

After May 2, 2012, when the automatic extension of EADs expires, employers must reverify the employee's employment authorization in Section 3.

If I am an employer enrolled in E-Verify, what do I do when I receive a “Work Authorization Documents Expiring” alert for an automatically extended EAD?

If you are an employer who participates in E-Verify, you will receive a “Work Authorization Documents Expiring” case alert when a TPS beneficiary's EAD is about to expire. Usually, this message is an alert to complete Section 3 of Form I-9 to reverify an employee's employment authorization. For existing employees with TPS EADs that have been automatically extended, employers should disregard the E-Verify case alert and follow the instructions above explaining how to correct Form I-9. After May 2, 2012, employment authorization needs to be reverified in Section 3. You should never use E-Verify for reverification.

Can my employer require that I produce any other documentation to prove my status, such as proof of my Sudanese or South Sudanese Citizenship?

No. When completing the Form I-9, employers must accept any documentation that appears on the lists of acceptable documentation, and that reasonably appears to be genuine and that relates to you. Employers may not request documentation that does not appear on the Form I-9. Therefore, employers may not request proof of Sudanese or South Sudanese citizenship when completing Form I-9. If presented with EADs that have been automatically extended pursuant to this Federal Register notice or EADs that are unexpired on their face, employers should accept such EADs as valid “List A” documents so long as the EADs reasonably appear to be genuine and to relate to the employee. See below for important information about your rights if your employer rejects lawful documentation, requires additional documentation, or otherwise discriminates against you because of your citizenship or immigration status, or national origin.

Note to All Employers

Employers are reminded that the laws requiring employment eligibility verification and prohibiting unfair immigration-related employment practices remain in full force. This notice does not supersede or in any way limit applicable employment verification rules and policy guidance, including those rules setting forth reverification requirements. For questions, employers may call the USCIS Customer Assistance Office at 1-800-357-2099. The USCIS Customer Assistance Office accepts calls in English and Spanish only. Employers may also call the Department of Justice (DOJ) Office of Special Counsel for Immigration-Related Unfair Employment Practices (OSC) Employer Hotline at 1-800-255-8155.

Note to Employees

Employees or applicants may call the DOJ OSC Worker Information Hotline at 1-800-255-7688 for information regarding employment discrimination based upon citizenship or immigration status, or national origin, unfair documentary practices related to the Form I-9, or discriminatory practices related to E-Verify. Employers must accept any document or combination of documents acceptable for Form I-9 completion if the documentation reasonably appears to be genuine and to relate to the employee. Employers may not require extra or additional documentation beyond what is required for Form I-9 completion. Further, employees who receive an initial mismatch via E-Verify must be given an opportunity to challenge the mismatch, and employers are prohibited from taking adverse action against such employees based on the initial mismatch unless and until E-Verify returns a final nonconfirmation. The Hotline accepts calls in multiple languages. Additional information is available on the OSC Web site at http://www.justice.gov/crt/osc/.

Note Regarding Federal, State, and Local Government Agencies (Such as Departments of Motor Vehicles)

State and local government agencies are permitted to create their own guidelines when granting certain benefits, such as a driver's license or an identification card. Each state may have different laws, requirements, and determinations about what documents you need to provide to prove eligibility for certain benefits. If you are applying for a state or local government benefit, you may need to provide the state or local government agency with documents that show you are a TPS beneficiary and/or show you are authorized to work based on TPS. Examples are:

(1) Your expired EAD that has been automatically extended, or your EAD that has a valid expiration date;

(2) A copy of this Federal Register notice if your EAD is automatically extended under this notice;

(3) A copy of your Application for Temporary Protected Status, Form I-821 Receipt Notice (Form I-797) for this re-registration;

(4) A copy of your past or current Form I-821 Approval Notice (Form I-797), if you receive one from USCIS; and

(5) If there is an automatic extension of work authorization, a copy of the fact sheet from the USCIS TPS Web site that provides information on the automatic extension.

Check with the state or local agency regarding which document(s) the agency will accept.

Some benefit-granting agencies use the USCIS Systematic Alien Verification for Entitlements Program (SAVE) to verify the current immigration status of applicants for public benefits. If such an agency has denied your application based solely or in part on a SAVE response following completion of all required SAVE verification steps, the agency must offer you the opportunity to appeal the decision in accordance with the agency's procedures. If the agency has completed all SAVE verification and you do not believe the response is correct, you may make an Info Pass appointment for an in-person interview at a local USCIS office. Detailed information on how to make corrections, make an appointment, or submit a written request can be found at the SAVE Web site at http://www.uscis.gov/save, then by choosing “How to Correct Your Records” from the menu on the right.

[FR Doc. 2011-26538 Filed 10-12-11; 8:45 am]

BILLING CODE 9111-97-P